DEPARTMENT OF COMMERCE

Submission for OMB Review; Comment Request

The Department of Commerce has submitted to the Office of Management and Budget (OMB) for clearance the following proposal for collection of information under the provisions of the Paperwork Reduction Act (44 U.S.C. Chapter 35).

Agency: Technology Administration.

Title: Government-Owned Inventions License Application and Utilization Report.

Form Number(s): None.

OMB Approval Number: 0692-0006.

Type of Request: Regular submission.

Burden Hours: 5,200 hours.

Number of Respondents: 4,600.

Average Hours Per Response: 2 hours for a license application and 1 hour for an utilization report.

Needs and Uses: An application for a license is required from any person or organization seeking a license on a Government-owned invention. This information will assist the agency to determine if a license should be granted, whether it should be exclusive and on what financial terms (execution fee, annual minimum payments, and royalty rates). An annual utilization report is required of each licensee to determine if the license should be modified or terminated and how much royalties are owed to the Government.

Affected Public: Individuals or households, business or other for-profit organizations, not-for-profit institutions.

Frequency: Annually and on occasion.

Respondent's Obligation: Required to obtain or retain benefits.

OMB Desk Officer: Kristy LaLonde, (202) 395-3087.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Kristy LaLonda, OMB Desk Officer, FAX number (202) 395-5806 or via the Internet at Kristy_L._LaLonda@omb.eop.gov.

Dated: November 14, 2005.
Gwellnar Banks,
Management Analyst, Office of the Chief Information Officer.

[FR Doc. 05-22852 Filed 11-17-05; 8:45 am]

BILLING CODE 3510-18-P